DEPARTMENT OF HEALTH AND HUMAN SERVICES

Administration for Children and Families

Submission for OMB Review; Comment Request

Title: Innovative Strategies for Increasing Self Sufficiency (ISIS)—Intervention Strategy Assessment Guide.

OMB No.: New Collection.

Description: The Administration for Children and Families (ACF), U.S. Department of Health and Human Services (HHS), is proposing a data collection activity as part of the Innovative Strategies for Increasing Self-Sufficiency (ISIS) demonstration and evaluation. The ISIS project will test a range of promising strategies to promote employment, self-sufficiency, and reduce dependence on cash welfare. The ISIS project will evaluate multiple employment-focused strategies that build on previous approaches and are adapted to the current Federal, State, and local policy environment. The major goals of the project include increasing the empirical knowledge about the effectiveness of a variety of programs for low-income families to sustain employment and advance to positions that enable self-sufficiency, as well as producing useful findings for both policymakers and program administrators.

This proposed information collection activity focuses on identifying promising strategies to be tested as part of the study. Through semi-structured discussions, respondents will be asked to comment on the most important strategies and interventions for potential evaluation.

Respondents: Semi-structured discussions will be held with administrators or staff of State agencies, local agencies, and programs with responsibility for employment-related services or activities for welfare and other low-income families; researchers in the field of welfare policy, poverty, economic self-sufficiency, and low-wage labor markets; and policymakers at various levels of government.

Annual Burden Estimates
Instrument | Number of respondents | Number of responses per respondent | Average burden hours per response | Total annual burden hours
Intervention Strategy Assessment Guide | 400 | 1 | .5 | 200

Estimated Total Annual Burden Hours: 200.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: April 14, 2008.
Brendan C. Kelly,
OPRE Reports Clearance Officer.

[FR Doc. E8-8624 Filed 4-22-08; 8:45 am]

BILLING CODE 4184-01-M